DEPARTMENT OF EDUCATION

[Docket ID Number ED-2018-IES-0126]

Proposed 2020 Update to the Classification of Instructional Programs (CIP) and Request for Comment

AGENCY: National Center for Education Statistics (NCES), Institute of Education Sciences, U.S. Department of Education.

ACTION: Notice.

SUMMARY: The Secretary of Education announces proposed updates to the CIP for 2020 and provides a 60-day period for members of the public to review and comment on the changes.

DATES: We must receive your comments on or before February 25, 2019.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

If you are submitting comments electronically, we strongly encourage you to submit any comments or attachments in Microsoft Word format. If you must submit a comment in Adobe Portable Document Format (PDF), we strongly encourage you to convert the PDF to print-to-PDF format or to use some other commonly used searchable text format. Please do not submit the PDF in a scanned format. Using a print-to-PDF format allows the Department of Education (Department) to electronically search and copy certain portions of your submissions.

• Federal eRulemaking Portal: Go to www.regulations.gov to submit your comments electronically. Information on using Regulations.gov, including instructions for accessing agency documents, submitting comments, and viewing the docket, is available on the site under “Help.”

• Postal Mail, Commercial Delivery, or Hand Delivery: The Department strongly encourages commenters to submit their comments electronically. However, if you mail or deliver your comments about the proposed regulations, address them to Commissioner, National Center for Education Statistics, Institute of Education Sciences, U.S. Department of Education, Potomac Center Plaza, 550 12th Street SW, 4th Floor, Washington, DC 20202-4160.

Privacy Note: The Department's policy is to make comments received from members of the public available for public viewing on the Federal eRulemaking Portal at www.regulations.gov. Therefore, commenters should be careful to include in their comments only information that they wish to make publicly available.

Assistance to Individuals with Disabilities in Reviewing the Comments: On request, we will supply an appropriate accommodation or auxiliary aid to an individual with a disability who needs assistance to review the comments or other documents related to this notice. If you want to schedule an appointment for this type of accommodation or auxiliary aid, please contact the person listed under FOR FURTHER INFORMATION CONTACT.

FOR FURTHER INFORMATION CONTACT: Michelle Coon, U.S. Department of Education, Potomac Center Plaza, 550 12th Street SW, 4th floor, Washington, DC 20202-4160. Telephone: (202) 245-6689. Email: michelle.coon@ed.gov.

If you use a telecommunications device for the deaf (TDD) or a text telephone (TTY), call the Federal Relay Service (FRS), toll free, at 1-800-877-8339.

SUPPLEMENTARY INFORMATION: The CIP is a taxonomic coding scheme of instructional programs. Its purpose is to facilitate the organization, collection, and reporting of fields of study and program completions. The CIP is the accepted Federal government statistical standard on instructional program classifications and is used in a variety of education information surveys and databases by Federal and State agencies, national associations, academic institutions, and employment counseling services for collecting, reporting, and analyzing instructional program data.

The vast majority of CIP titles correspond to academic and occupational instructional programs offered for credit at the postsecondary level. These programs result in recognized completion points and awards, including degrees, certificates, and other formal awards. The CIP also includes other types of instructional programs, such as residency programs in various dental, medical, podiatric, nursing, physician assistant, pharmacy, and veterinary specialties that may lead to advanced professional certification; personal improvement and leisure programs; and instructional programs that lead to diplomas and certificates at the secondary level only.

The CIP was originally developed in 1980 by the NCES within the Department, with revisions occurring in 1985, 1990, 2000, and 2010. The 2020 edition of the CIP (CIP-2020) is the fifth revision of the CIP and presents an updated taxonomy of instructional program classifications and descriptions. In order to develop the CIP-2020, NCES completed a comprehensive, multi-stage process over a two-year period, including extensive background research and analysis; solicitation of suggestions from Integrated Postsecondary Education Data System (IPEDS) keyholders; and guidance, input, and review from a Technical Review Panel. The main focus of the CIP-2020 update has been adding new and emerging programs of study. In the CIP-2020 update, we avoided movement of existing programs to minimize burden on IPEDS-reporting institutions and to maintain consistency with prior versions of the CIP, and existing CIP codes were only deleted if absolutely necessary.

This notice announces a 60-day public comment period to review and comment on the proposed 2020 update to the CIP. The proposed updates are posted on the NCES website at https://nces.ed.gov/ipeds/cipcode/files/CIP_Revision_2020.docx. We are seeking public comment in part because we recognize that CIP codes are increasingly used not only by institutions of higher education but also by many other public and private entities, and that changes to the CIP may have ramifications for those entities' work. In addition, to ensure that new codes are warranted, NCES is only establishing new codes for CIP-2020 where we identified at least five and preferably ten postsecondary institutions offering the program. If you are suggesting an addition to the CIP, please provide a description of the program of study and list at least five—but preferably ten—postsecondary institutions offering it.

We will consider comments received in response to this notice in making final decisions for the CIP-2020. NCES expects to approve and publish the CIP-2020 by the end of summer 2019.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: December 19, 2018.
Mark Schneider,
Director, Institute of Education Sciences.

[FR Doc. 2018-27933 Filed 12-26-18; 8:45 am]

BILLING CODE 4000-01-P